DEPARTMENT OF ENERGY

Federal Energy Regulatory Commission

Combined Notice of Filings

Take notice that the Commission has received the following Natural Gas Pipeline Rate and Refund Report filings:

Filings Instituting Proceedings

Docket Numbers: RP13-1223-000.

Applicants: National Fuel Gas Supply Corporation.

Description: ACA Filing_Order No. 776 (2013) to be effective 10/1/2013.

Filed Date: 8/2/13.

Accession Number: 20130802-5101.

Comments Due: 5 p.m. ET 8/14/13.

Docket Numbers: RP13-1224-000.

Applicants: WBI Energy Transmission, Inc.

Description: ACA Compliance Filing to be effective 10/1/2013.

Filed Date: 8/2/13.

Accession Number: 20130802-5111.

Comments Due: 5 p.m. ET 8/14/13.

Docket Numbers: RP13-1225-000.

Applicants: Tallgrass Interstate Gas Transmission, L.

Description: ACA by Reference Filing TIGT to be effective 10/1/2013.

Filed Date: 8/2/13.

Accession Number: 20130802-5205.

Comments Due: 5 p.m. ET 8/14/13.

Docket Numbers: RP13-1226-000.

Applicants: Rockies Express Pipeline LLC.

Description: ACA by Reference Filing—REX to be effective 10/1/2013.

Filed Date: 8/2/13.

Accession Number: 20130802-5207.

Comments Due: 5 p.m. ET 8/14/13.

Docket Numbers: RP13-1227-000.

Applicants: Trailblazer Pipeline Company LLC.

Description: ACA by Reference Filing TB to be effective 10/1/2013.

Filed Date: 8/2/13.

Accession Number: 20130802-5208.

Comments Due: 5 p.m. ET 8/14/13.

Any person desiring to intervene or protest in any of the above proceedings must file in accordance with Rules 211 and 214 of the Commission's Regulations (18 CFR § 385.211 and 385.214) on or before 5:00 p.m. Eastern time on the specified comment date. Protests may be considered, but intervention is necessary to become a party to the proceeding.

Filings in Existing Proceedings

Docket Numbers: RP13-1223-001.

Applicants: National Fuel Gas Supply Corporation.

Description: Errata Filing—ACA Filing_Order No. 776 (2013) to be effective 10/1/2013.

Filed Date: 8/2/13.

Accession Number: 20130802-5178.

Comments Due: 5 p.m. ET 8/14/13.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 5, 2013.
Nathaniel J. Davis, Sr.,
Deputy Secretary.

[FR Doc. 2013-19579 Filed 8-13-13; 8:45 am]

BILLING CODE 6717-01-P